NUCLEAR REGULATORY COMMISSION

[Docket No. 40-8857]

Notice of Amendment Request for Proposed Operation of the Gas Hills Project in situ Leach Uranium Recovery Facility, Freemont and Natrona Counties, WY, and Opportunity To Provide Comments and To Request a Hearing

I. Introduction

The U. S. Nuclear Regulatory Commission (NRC) has received, by letter dated June 24, 1998, a license amendment application from Power Resources, Inc. (PRI), requesting an amendment to Source Materials License SUA-1511 for the Highland Uranium Project to allow the operation of an in situ leach (ISL) uranium recovery facility at the Gas Hills Project site. In order to support the staff's detailed technical review of the license amendment application, the staff requested additional information from PRI in letters dated May 21, 1999, and July 15, 1999. In response to staff requests for additional information, PRI supplemented and revised the license amendment application in letters dated September 24, 1999, November 11, 1999, and May 3, 2002.

The Highland Uranium Project is an existing licensed (Source Materials License SUA-1511) ISL uranium recovery facility located in central Converse County, Wyoming, approximately 24 miles northeast of Glenrock. Source Materials License SUA-1511 for the commercial operation of the Highland Uranium Project was issued on July 1, 1987. The planned Gas Hills Project covers approximately 8500 acres where PRI proposes to operate the Gas Hills Project as a satellite uranium recovery facility to the Highland Uranium Project facility. As a satellite facility, only well-field, ion exchange, and water treatment facilities would be constructed and operated at the Gas Hills Project to support uranium recovery activities. During process operations, uranium will be leached from identified subsurface ore bodies by circulating local groundwater fortified with chemicals through the mineralized zones. The dissolved uranium will be extracted from the uranium-bearing solution at a surface ion exchange facility at the Gas Hills Project. Then, the uranium-laden ion exchange resin will be transported by truck from the Gas Hills Project site to the Highland Uranium Project site for final processing of the uranium into “yellowcake” (U3O8). The travel distance by road between the Gas Hills Project and the Highland Uranium Project is approximately 140 miles. Water treatment facilities, including evaporation ponds, will be provided at the Gas Hills Project for treatment of wastes from process operations and subsequent well-field groundwater restoration activities.

PRI intends to extract sufficient uranium from the Gas Hills Project to yield as much as 2.5 million pounds of yellowcake per year over a production period of twenty years or longer. When the recovery of uranium from the Gas Hills Project well-fields reaches its economic limit, ISL operations will cease and groundwater restoration in the affected well-fields will begin. In this regard, it is PRI's intent to return the affected groundwater to baseline (pre-mining) conditions or acceptable water quality based on class of use. When groundwater restoration is complete in all the affected well-fields, all of the surface equipment, buildings, and structures will be decommissioned and all disturbed areas will be reclaimed. PRI's goal in this process will be to return the disturbed areas of the Gas Hills Project to their original or baseline conditions to the extent practical. Radioactive solid wastes and contaminated materials generated during process operations and resulting from decommissioning and reclamation activities will be disposed of at an NRC licensed disposal facility.

II. Opportunity To Provide Comments

The NRC is providing notice to individuals in the vicinity of the facility that the NRC is in receipt of this license amendment request, and will accept comments concerning this action within 30 days of the publication of this notice in the Federal Register. The comments may be provided to the Chief, Rules and Directives Branch, Division of Administrative Services, Office of Administration, U.S. Nuclear Regulatory Commission, Washington, DC 20555-0001, and should cite the publication date and page number of this Federal Register notice. Written comments may also be delivered to Room T-6 D59, Two White Flint North, 11545 Rockville Pike, Rockville, MD 20852, from 7:30 a.m. until 4:15 p.m. on Federal workdays.

III. Opportunity To Request a Hearing

The NRC hereby provides notice that this is a proceeding on an application for an amendment of a license falling within the scope of Subpart L, “Informal Hearing Procedures for Adjudications in Materials and Operator Licensing Proceedings' of NRC's rules and practice for domestic licensing proceedings in 10 CFR Part 2. Pursuant to § 2.1205(a), any person whose interest may be affected by this proceeding may file a request for a hearing in accordance with § 2.1205(d). A request for a hearing must be filed within 30 days of the publication of this Federal Register notice.

The request for a hearing must be filed with the Office of the Secretary, either:

(1) By delivery to the Rulemaking and Adjudications Staff of the Office of the Secretary of the Commission at One White Flint North, 11555 Rockville Pike, Rockville, MD 20852; or

(2) By mail or telegram addressed to the Secretary, U.S. Nuclear Regulatory Commission, Washington, DC 20555-0001, Attention: Rulemaking and Adjudications Staff. Because of continuing disruptions in the delivery of mail to United States Government offices, it is requested that requests for hearing also be transmitted to the Secretary of the Commission either by means of facsimile transmission to 301-415-1101, or by e-mail to hearingdocket@nrc.gov.

In accordance with 10 CFR 2.1205(f), each request for a hearing must also be served, by delivering it personally or by mail, to:

(1) The applicant, Power Resources, Inc., Highland Uranium Project, P.O. Box 1210, Glenrock, Wyoming 82637, Attention: William F. Kearney; and

(2) The NRC staff, by delivery to the General Counsel, One White Flint North, 11555 Rockville Pike, Rockville, MD 20852, or by mail addressed to the Office of the General Counsel, U.S. Nuclear Regulatory Commission, Washington, DC 20555-0001. Because of continuing disruptions in the delivery of mail to United States Government offices, it is requested that requests for hearing be also transmitted to the Office of the General Counsel, either by means of facsimile transmission to 301-415-3725, or by e-mail to OGCMailCenter@nrc.gov.

In addition to meeting other applicable requirements of 10 CFR Part 2 of the NRC's regulations, a request for a hearing filed by a person other than an applicant must describe in detail:

(1) The interest of the requestor;

(2) How that interest may be affected by the results of the proceeding, including the reasons why the requestor should be permitted a hearing, with particular reference to the factors set out in § 2.1205(h);

(3) The requestor's areas of concern about the licensing activity that is the subject matter of the proceeding; and

(4) The circumstances establishing that the request for a hearing is timely in accordance with § 2.1205(d).

IV. Further Information

The application for the license amendment, and the supporting supplements and revisions to the application, are available for inspection at NRC's Public Electronic Reading Room at http://www.nrc.gov/reading-rm/adams.html [ADAMS Accession Numbers ML030310553, ML023640347, ML993300211, and ML021340187]. Documents may also be examined and/or copied for a fee, at the NRC's Public Document Room, located at One White Flint North, 11555 Rockville Pike, Rockville, MD 20852. Any questions with respect to this action should be referred to Rick Weller, Fuel Cycle Facilities Branch, Division of Fuel Cycle Safety and Safeguards, Office of Nuclear Material Safety and Safeguards, U.S. Nuclear Regulatory Commission, Mail Stop T8-A33, Washington, DC 20555-0001. Telephone: (301) 415-7287; Fax: (301) 415-5390.

Dated at Rockville, Maryland, this 20th day of February, 2003.
For the Nuclear Regulatory Commission.
Daniel M. Gillen,
Chief, Fuel Cycle Facilities Branch, Division of Fuel Cycle Safety and Safeguards, Office of Nuclear Material Safety and Safeguards.

[FR Doc. 03-4538 Filed 2-25-03; 8:45 am]

BILLING CODE 7590-01-P